DEPARTMENT OF COMMERCE

Foreign-Trade Zones Board

[B-52-2013]

Foreign-Trade Zone 168—Dallas/Fort Worth, Texas Application for Reorganization/Expansion

An application has been submitted to the Foreign-Trade Zones (FTZ) Board by the Metroplex International Trade Development Corporation, grantee of FTZ 168, requesting authority to reorganize and expand its existing sites in Gainesville (Site 8) and Coppell (Site 9), Texas. The application was submitted pursuant to the provisions of the Foreign-Trade Zones Act, as amended (19 U.S.C. 81a-81u), and the regulations of the FTZ Board (15 CFR part 400). It was formally docketed on May 23, 2013.

FTZ 168 was approved on November 1, 1990 (Board Order 491, 55 FR 46974, 11/8/90), and expanded on October 8, 1992 (Board Order 603, 57 FR 47619, 10/19/92), on April 23, 1997 (Board Order 873, 62 FR 24081, 5/2/97), twice on May 8, 1997 (Board Orders 885 and 886, 62 FR 28445, 5/23/97), and on May 28, 1998 (Board Order 982, 63 FR 31200, 6/8/98). The zone currently consists of nine sites (one of which is temporary) totaling 2,010 acres: Site 1 (21 acres)—within the Carter Industrial Park located at Alta Mesa and Will Rogers Boulevards (5 acres) and at 1301 Joel East Road (16 acres) in southern Fort Worth; Site 2 (263 acres)—within the Centreport Industrial Development located at Highways 183 and 360 in Fort Worth; Site 3 (195 acres)—within the Fossil Creek Business Park located at Interstates 35W and 820 in Fort Worth; Site 4 (91 acres)—Regency Business Park located at Post and Paddock Road in Grand Prairie; Site 5 (630 acres)—within the 1,200-acre Mercantile Center located at Interstate 35 and Meacham Boulevard in Fort Worth; Site 6 (168 acres)—Frankford Trade Center located adjacent to Interstate 35E and Frankford Road in Carrollton; Site 7 (185 acres)—Corporate Square Industrial Park/Armco/National Industrial Center, 3333 North I.H. 35, Gainesville; Site 8 (421 acres)—Gainesville Municipal Airport, 2300 Bonnavilla Drive, Gainesville; and, Temporary Site 9 (36 acres, expires 12/31/2013)—located at 400 Dividend Drive, Coppell.

The applicant is requesting authority to reorganize and expand the zone as follows: modify Site 8 by removing 101 acres due to changed circumstances (new total acreage—320 acres); and, modify and expand Site 9 by requesting permanent status for the site's current 36 acres and including an additional 65.156 acres within the Point West Industrial Park (new total acreage—101.156 acres). No request for production authority is being requested at this time. Such requests would be made to the FTZ Board on a case-by-case basis.

In accordance with the FTZ Board's regulations, Camille Evans of the FTZ Staff is designated examiner to evaluate and analyze the facts and information presented in the application and case record and to report findings and recommendations to the FTZ Board.

Public comment is invited from interested parties. Submissions shall be addressed to the FTZ Board's Executive Secretary at the address below. The closing period for their receipt is July 29, 2013. Rebuttal comments in response to material submitted during the foregoing period may be submitted during the subsequent 15-day period to August 12, 2013.

A copy of the application will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz. For further information, contact Camille Evans at Camille.Evans@trade.gov or at (202) 482-2350.

Dated: May 23, 2013.
Andrew McGilvray,
Executive Secretary.

[FR Doc. 2013-12781 Filed 5-28-13; 8:45 am]

BILLING CODE 3510-DS-P